DEPARTMENT OF TRANSPORTATION

Federal Aviation Administration

14 CFR Part 91

[Docket No. FAA-2013-0503; Amdt. No. 91-328]

RIN 2120-AK25

Adoption of Statutory Prohibition on the Operation of Jets Weighing 75,000 Pounds or Less That Are Not Stage 3 Noise Compliant

AGENCY: Federal Aviation Administration (FAA), DOT.

ACTION: Final rule; disposition of comments.

SUMMARY: On July 2, 2013, the FAA published a final rule (78 FR 39576) amending the airplane operating regulations to include certain provisions of the FAA Modernization and Reform Act of 2012 that affect jet airplanes with a maximum weight of 75,000 pounds or less operating in the United States. We solicited public comment on the final rule even though the FAA is not authorized to change the statutorily mandated prohibition. This action responds to the public comment the FAA received.

ADDRESSES: You may review the public docket for this rulemaking (Docket No. FAA-2013-0503) at the Docket Management Facility in Room W12-140 of the West Building Ground Floor at 1200 New Jersey Avenue SE., Washington, DC, 20590-0001 between 9 a.m. and 5 p.m., Monday through Friday, except Federal holidays. You may also review the public docket on the Internet at http://www.regulations.gov.

FOR FURTHER INFORMATION CONTACT: For technical questions concerning this action, contact Sandy Liu, AEE-100, Office of Environment and Energy, Federal Aviation Administration, 800 Independence Avenue SW., Washington, DC 20591; telephone: (202) 493-4864; facsimile (202) 267-5594; email: sandy.liu@faa.gov.

For legal questions concerning this action, contact Karen Petronis, AGC-200, Office of the Chief Counsel, International Law, Legislation, and Regulations Division, Federal Aviation Administration, 800 Independence Avenue SW., Washington, DC 20591; telephone: (202) 267-3073; email: karen.petronis@faa.gov.

SUPPLEMENTARY INFORMATION

Background

In section 506 of the FAA Modernization and Reform Act of 2012 (“the Act”), Congress prohibits the operation of jet airplanes weighing 75,000 pounds or less in the contiguous United States after December 31, 2015, unless the airplanes meet Stage 3 noise levels. The Act also describes certain circumstances under which otherwise prohibited operations will be allowed. These provisions have been codified at Title 49, Section 47534 of the United States Code. This final rule incorporates those provisions into the regulations of part 91 of Title 14 of the Code of Federal Regulations (part 91).

Discussion of Comments

The FAA received one comment from General Electric (GE), who informed the FAA that a hushkit modification for the Dassault Falcon 20 model airplane is still available.

There are an estimated sixty-nine (69) Falcon 20 airplanes registered in the United States. If all of the owners chose to purchase the hushkit, doing so would reduce the societal cost of the statute estimated in the preamble to the final rule. The choice to hushkit or remove the airplane from U.S. service is a decision to be made by the airplane owners. The statutory prohibition remains in effect, and nothing about the FAA's adoption of the statutory language into part 91 is affected by the availability of the hushkit, or the decisions of the airplane owners.

When the regulatory analysis for the final rule was prepared, it accurately reflected market conditions. However, it is not unusual for the marketplace to react to a regulation. If there are additional hushkits or other modifications that become available for other affected airplanes, they will have no effect on the statute or the FAA's adoption of the language, as noted above. The choice to modify airplanes remains with airplane owners. The FAA does not intend to amend the original final rule estimates, as they may continue to change.

Correspondence received by the FAA from Dassault Falcon Jet Corporation and GE regarding the hushkit product information have been posted in the docket for this final rule.

Issued in Washington, DC on September 9, 2013.
Lourdes Maurice,
Director, Office of Environment and Energy.

[FR Doc. 2013-22850 Filed 9-19-13; 8:45 am]

BILLING CODE 4910-13-P